DEPARTMENT OF LABOR

Employment and Training Administration

[TA-W-65,770; TA-W-65,770A; TA-W-65,770B; TA-W-65,770C]

Westport Shipyard, Inc., Westport, WA; Westport Shipyard, Inc., Hoquiam, WA; Westport Shipyard, Inc., Port Angeles, WA; Westport Shipyard, Inc., La Conner, WA; Notice of Negative Determination Regarding Application for Reconsideration

By application dated June 12, 2009, the petitioners requested administrative reconsideration of the Department's negative determination regarding eligibility to apply for Trade Adjustment Assistance (TAA) and Alternative Trade Adjustment Assistance (ATAA), applicable to workers and former workers of the subject firm. The denial notice was signed on May 15, 2009 and published in the Federal Register on June 18, 2009 (74 FR 28961).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The initial investigation resulted in a negative determination, which was based on the finding that imports of large motor yachts did not contribute importantly to worker separations at the subject facility and there was no shift of production to a foreign country. The subject firm did not import large motor yachts nor shift production of large motor yachts to a foreign country during the 2007, 2008 and January through March 2009 period. Furthermore, the investigation revealed that sales and production of large motor yachts at the subject firm increased from January through March, 2009 when compared with the same period in 2008.

The petitioners alleged that the customers of the subject firm, who are individual buyers and not business entities, can purchase “similar products” in foreign countries. The individuals can subsequently ship or sail the yachts back to the United States as a personal property, thus these products are not considered imports. To support their allegations, the petitioners attached information about aggregate imports, which reflects ports of unlading of “yachts, row boats, canoes and sailboats, with or without auxiliary motor” for the state of Washington in 2006, 2007, 2008 and January 2009. This data shows that aggregate imports into the state of Washington of the above mentioned products declined from 2006 to 2007, further declined from 2007 to 2008, and increased in January 2009 when compared with January 2008. The petitioners seem to allege that these increasing imports in January 2009 amounted to a significant amount contributing importantly to the worker separations at all Westport Shipyard locations.

In order to establish import impact, the Department solicits relevant information from the subject firm, customers of the subject firm and analyzes available United States aggregate data regarding imports of products, including those like or directly competitive with the products manufactured by the subject firm for the relevant period (one year prior to the date of the petition). In the case at hand, the customers were not surveyed, as they are individuals and one-time buyers. According to the data available from the U.S. Department of Commerce and the U.S. International Trade Commission, United States imports of motorized vessels and yachts have declined from 2007 to 2008 and decreased from January through April 2009, when compared with the corresponding 2008 period.

The petitioner did not supply facts not previously considered; nor provide additional documentation indicating that there was either (1) a mistake in the determination of facts not previously considered or (2) a misinterpretation of facts or of the law justifying reconsideration of the initial determination.

After careful review of the request for reconsideration, the Department determines that 29 CFR 90.18(c) has not been met.

Conclusion

After review of the application and investigative findings, I conclude that there has been no error or misinterpretation of the law or of the facts which would justify reconsideration of the Department of Labor's prior decision. Accordingly, the application is denied.

Signed in Washington, DC, this 9th day of July 2009.
Linda G. Poole,
Certifying Officer, Division of Trade Adjustment Assistance.

[FR Doc. E9-18183 Filed 7-29-09; 8:45 am]

BILLING CODE 4510-FN-P